FEDERAL COMMUNICATIONS COMMISSION

Public Information Collections Approved by Office of Management and Budget

September 6, 2007.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Thomas Butler, Federal Communications Commission, 445 12th Street, SW., Washington, DC 20554, (202) 418-1359 or via the Internet at thomas.butler@fcc.gov.

SUPPLEMENTARY INFORMATION: OMB Control No.: 3060-0853.

OMB Approval Date: 8/10/2007.

Expiration Date: 4/30/2010.

Titles: Receipt of Service Confirmation Form; Certification by Administrative Authority to Billed Entity of Compliance with Children's Internet Protection Act—Universal Service for Schools and Libraries; Adjustment to Funding Commitment and Modification to Receipt of Service Confirmation Form.

Form Nos.: FCC Forms 479, 486 and 500.

Type of Review: Revision of a currently approved collection.

Respondents: Business or other for-profit; not-for-profit institutions; and state, local, or tribal government.

Number of Respondents: 45,000.

Estimated Time per Response: 1.5 hours.

Frequency of Response: On occasion, annual reporting requirement, and third party disclosure requirement.

Total Annual Burden: 62,500 hours.

Total Annual Cost: N/A.

Privacy Act Assessment: N/A.

Needs and Uses: Schools and libraries receiving Internet access and internal connection services supported by the schools and libraries universal service support mechanism must certify that they are enforcing a policy of Internet safety and enforcing the operation of a technology prevention measure in compliance with the Children's Internet Protection Act (CIPA). Administrative Authorities for Billed Entities and their consortia generally must submit signed certifications on FCC Form 479 to the Billed Entity, or to their consortium, certifying as to the status of the Billed Entity in its compliance with CIPA. Billed Entities must use the FCC Form 486 to authorize payment of invoices from service providers, indicate approval of technology plans, and indicate compliance with CIPA. Billed Entities use the FCC Form 500 to make adjustments to previously filed forms. The FCC forms in this collection have been revised to reflect the most current information available, added updated language to the forms and instructions, and reflect the most current burden information. In addition, the FCC Form 486 has added a certification that the technology plan was approved before the receipt of services (Schools and Libraries Fifth Report and Order in FCC 04-190). The revised forms as approved by OMB are available for use and are posted on the Web site of the Universal Service Administrative Company under “Required Forms” at http://www.usac.org.

OMB Control No.: 3060-0856.

OMB Approval Date: 4/26/2007.

Expiration Date: 4/30/2010.

Titles: Billed Entity Applicant Reimbursement Form; Service Provider Annual Certification Form; Service Provider Invoice Form.

Form Nos.: FCC Forms 472, 473 and 474.

Type of Review: Revision of a currently approved collection.

Respondents: Business or other for-profit; not-for-profit institutions; and state, local, or tribal government.

Number of Respondents: 21,200.

Estimated Time per Response: 1-1.5 hours.

Frequency of Response: On occasion, annual reporting requirement, and third party disclosure requirement.

Total Annual Burden: 133,650 hours.

Total Annual Cost: N/A.

Privacy Act Assessment: N/A.

Needs and Uses: Schools and libraries receiving Internet access and internal connection services supported by the schools and libraries universal service support mechanism must certify that they are enforcing a policy of Internet safety and enforcing the operation of a technology prevention measure in compliance with the Children's Internet Protection Act (CIPA). Administrative Authorities for Billed Entities and their consortia generally must submit signed certifications on FCC Form 479 to the Billed Entity, or to their consortium, certifying as to the status of the Billed Entity in its compliance with CIPA. Billed Entities must use the FCC Form 486 to authorize payment of invoices from service providers, indicate approval of technology plans, and indicate compliance with CIPA. Billed Entities use the FCC Form 500 to make adjustments to previously filed forms. The FCC forms in this collection have been revised to reflect the most current information available, added updated language to the forms and instructions, and reflect the most current burden information. In addition, the FCC Form 486 has added a certification that the technology plan was approved before the receipt of services (Schools and Libraries Fifth Report and Order in FCC 04-190). The revised forms as approved by OMB are available for use and are posted on the Web site of the Universal Service Administrative Company under “Required Forms” at http://www.usac.org.

Federal Communications Commission.
Marlene H. Dortch,
Secretary.

[FR Doc. E7-18054 Filed 9-12-07; 8:45 am]

BILLING CODE 6712-01-P